DEPARTMENT OF ENERGY

Federal Energy Regulatory Commission

Project Nos. 13123-000; 12509-001]

Eagle Crest Energy Company; Notice of Scoping Meetings and Site Visit

December 17, 2008.

a. Type of Filing: Notice of Intent to File a License Application; Pre-Application Document; and Request to Use the Traditional Licensing Process.

b. Project Nos.: 13123-000 and 12509-001¹.

¹ Previously, the project was given FERC Project No. 12509-001. Upon issuance of a new preliminary permit on August 13, 2008, the project was given FERC Project No. 13123-000.

c. Dated Filed: October 16, 2008.

d. Submitted By: Eagle Crest Energy Company (Eagle Crest).

e. Name of Project: Eagle Mountain Pumped Storage Project.

f. Location: The Eagle Mountain Project would be located at two depleted mining pits in the Eagle Mountain Mine in Riverside County, California, near the town of Desert Center, California.

g. Filed Pursuant to: 18 CFR Part 5 of the Commission's Regulations.

h. Applicant Contact: Arthur Lowe, Eagle Crest Energy Company, 1 El Paso, Suite 204, Palm Desert, California 92260.

i. FERC Contact: Kim Nguyen (202) 502-6105 or e-mail kim.nguyen@ferc.gov.

j. Eagle Crest filed Pre-Application Document (PAD) and draft License Application (LA) for the Eagle Mountain Pumped Storage Project, including proposed process plan and schedule, with the Commission pursuant to 18 CFR 5.6 of the Commission's regulations.

k. Copies of the PAD, draft LA, and Scoping Document 1 (SD1) are available for review at the Commission in the Public Reference Room or may be viewed on the Commission's Web site (http://www.ferc.gov), using the “eLibrary” link. Enter the docket number, excluding the last three digits, in the docket number field to access the document. For assistance, contact FERC Online Support at FERCONlineSupport@ferc.gov or toll free at 1-866-208-3676, or for TTY, (202) 502-8659. The applicant maintains a project Web site with meeting information http://www.eaglemountainenergy.net.

Register online at http://ferc.gov/esubscribenow.htm to be notified via e-mail of new filings and issuances related to these or other pending projects. For assistance, contact FERC Online Support.

l. With this notice, we are soliciting comments on SD1. In addition, all comments on the PAD, draft LA, and SD1, study requests, requests for cooperating agency status, and all communications to Commission staff related to the merits of the potential applications (original and eight copies) must be filed with the Commission at the following address: Kimberly D. Bose, Secretary, Federal Energy Regulatory Commission, 888 First Street, NE., Washington, DC 20426. All filings with the Commission relevant to the Eagle Mountain Hydroelectric Project must include on the first page, the project name and number (P-13123-000), and bear the heading, as appropriate, “Comments on Scoping Document 1.” Any individual or entity interested in commenting on SD1 must do so no later than 60 days from receipt of this notice.

Comments on SD1 and other permissible forms of communications with the Commission may be filed electronically via the Internet in lieu of paper. The Commission strongly encourages electronic filings. See 18 CFR 385.2001(a)(1)(iii) and the instructions on the Commission's Web site (http://www.ferc.gov) under the “e-filing” link.

m. At this time, Commission staff intends to prepare an Environmental Impact Statement for the project, in accordance with the National Environmental Policy Act.

n. Scoping Meetings.

We will hold two scoping meetings for each project at the times and places noted below. The daytime meetings will focus on resource agency, Indian tribes, and non-governmental organization concerns, while the evening meetings are primarily for receiving input from the public. We invite all interested individuals, organizations, Indian tribes, and agencies to attend one or all of the meetings, and to assist staff in identifying particular study needs, as well as the scope of environmental issues to be addressed in the environmental document. The times and locations of these meetings are as follows:

Daytime Scoping Meeting

Date: January 16, 2009.

Time: 9 a.m.

Location: University of California at Riverside, Palm Desert Graduate Center, 75-080 Frank Sinatra Drive, Room B114/117, Palm Desert, California 92211.

Evening Scoping Meeting

Date: January 15, 2009.

Time: 7 p.m.

Location: University of California at Riverside, Palm Desert Graduate Center, 75-080 Frank Sinatra Drive, Room B200, Palm Desert, California 92211.

SD1, which outlines the subject areas to be addressed in the environmental document, has been mailed to the individuals and entities on the Commission's mailing list. Copies of SD1 will be available at the scoping meetings, or may be viewed on the Web at http://www.ferc.gov, using the “eLibrary” link. Follow the directions for accessing information in paragraph k. Depending on the extent of comments received, a Scoping Document 2 (SD2) may or may not be issued.

Site Visit

The applicant will conduct a site visit of the project on January 15, 2009 at 9 a.m. Those wishing to participate in the site visit should meet at the University of California at Riverside, Palm Desert Graduate Center, 75-080 Frank Sinatra Drive, Room B200, Palm Desert, California. To appropriately accommodate persons interested in attending the site visit, participants should contact Andrea Oliver with Eagle Crest at (760) 346-4900 or e-mail at aoliver@eaglecrestenergy.com by January 8, 2009.

Scoping Meeting Objectives

At the scoping meetings, staff will: (1) Present the proposed list of issues to be addressed in the EA; (2) review and discuss existing conditions and resource agency management objectives; (3) review and discuss existing information and identify preliminary information and study needs; (4) review and discuss the process plan and schedule for pre-filing activity that incorporates the time frames provided for in Part 5 of the Commission's regulations and, to the extent possible, maximizes coordination of federal, state, and tribal permitting and certification processes; and (5) discuss requests by any federal or state agency or Indian tribe acting as a cooperating agency for development of an environmental document.

Meeting participants should come prepared to discuss their issues and/or concerns. Please review the PAD and draft LA in preparation for the scoping meetings. Directions on how to obtain a copy of the PAD, draft LA, and SD1 are included in item k of this notice.

Scoping Meeting Procedures

The scoping meetings will be recorded by a stenographer and will become part of the formal Commission records for the projects.

Kimberly D. Bose,
Secretary.

[FR Doc. E8-30564 Filed 12-23-08; 8:45 am]

BILLING CODE 6717-01-P